DEPARTMENT OF ENERGY

Federal Energy Regulatory Commission

Notice of Filings (Tuesday, May 17, 2005)

Take notice that the Commission received the following electric rate filings.

Docket Numbers: ER03-956-004.

Applicants: Duke Energy Marketing America, LLC.

Description: Duke Energy Marketing America, LLC submits revisions to its FERC Electric Tariff, Original Volume 1 under ER03-956.

Filed Date: 5/12/2005.

Accession Number: 20050516-0031.

Comment Date: 5 p.m. Eastern Time on Thursday, June 2, 2005.

Docket Numbers: ER05-576-001.

Applicants: Southwest Power Pool, Inc.

Description: Southwest Power Pool, Inc submits a compliance filing in order to report that it has no refund liability etc, pursuant to FERC's 4/13/05 Order under ER05-576.

Filed Date: 5/12/2005.

Accession Number: 20050516-0155.

Comment Date: 5 p.m. Eastern Time on Thursday, June 2, 2005.

Docket Numbers: ER05-587-001.

Applicants: Virginia Electric and Power Company.

Description: Virginia Electric & Power Co dba Dominion Virginia Power informs FERC that the date of integration into PJM Interconnection, LLC was completed and made effective on 5/1/05, pursuant to FERC's 4/5/05 Order under ER05-587.

Filed Date: 5/12/2005.

Accession Number: 20050516-0030.

Comment Date: 5 p.m. Eastern Time on Thursday, June 2, 2005.

Docket Numbers: ER05-729-000.

Applicants: Rainbow Energy Marketing Corporation.

Description: Rainbow Energy Marketing Corporation withdraws First Revised Sheet No. 1 to amend its FERC Electric Tariff at the request of Commission Staff under ER05-729.

Filed Date: 5/12/2005.

Accession Number: 20050512-5016.

Comment Date: 5 p.m. Eastern Time on Thursday, June 2, 2005.

Docket Numbers: ER05-957-000.

Applicants: Midwest Independent Transmission System.

Description: Midwest Independent Transmission System Operator, Inc submits an Interconnection & Operating Agreement with Turtle Mountain Community College, Inc et al., under ER05-957.

Filed Date: 5/12/2005.

Accession Number: 20050513-0046.

Comment Date: 5 p.m. Eastern Time on Thursday, June 2, 2005.

Docket Numbers: ER05-958-000.

Applicants: Midwest Independent Transmission System.

Description: Midwest Independent Transmission System Operator, Inc submits an Interconnection and Operating Agreement with Uilk Wind Farm LLC et al., pursuant to Section 205 of the Federal Power Act etc under ER05-958.

Filed Date: 5/12/2005.

Accession Number: 20050513-0047.

Comment Date: 5 p.m. Eastern Time on Thursday, June 2, 2005.

Docket Numbers: ER05-959-000.

Applicants: Entergy Services, Inc.

Description: Entergy Services, Inc agent for Entergy Arkansas, Inc et al., submits the annual information filing containing the 2005 rate redetermination in accordance with the annual rate redetermination provisions of Appendix 1 etc ER05-959.

Filed Date: 5/12/2005.

Accession Number: 20050516-0054.

Comment Date: 5 p.m. Eastern Time on Thursday, June 2, 2005.

Docket Numbers: ER05-960-000.

Applicants: AEP Texas North Company.

Description: AEP Texas North Co submits an executed Interconnection Agreement with FPL Energy Horse Hollow Wind, LP dated 5/9/05 under ER05-960.

Filed Date: 5/12/2005.

Accession Number: 20050516-0026.

Comment Date: 5 p.m. Eastern Time on Thursday, June 2, 2005.

Docket Numbers: ER05-961-000.

Applicants: Pacific Gas & Electric Company.

Description: Pacific Gas & Electric Co submits a Generator Special Facilities Agreement with Tri-Dam Project of the South San Joaquin and Oakdale Irrigation District under ER05-961.

Filed Date: 5/12/2005.

Accession Number: 20050516-0027.

Comment Date: 5 p.m. Eastern Time on Thursday, June 2, 2005.

Docket Numbers: ER05-962-000.

Applicants: Entergy Services, Inc.

Description: Entergy Arkansas, Inc submits the thirty-fourth Amendment to the Power Coordination, Interchange and Transmission Service Agreement with Arkansas Electric Coop Corp dated 5/8/05 under ER05-962.

Filed Date: 5/12/2005.

Accession Number: 20050516-0028.

Comment Date: 5 p.m. Eastern Time on Thursday, June 2, 2005.

Docket Numbers: ER05-963-000.

Applicants: Alpena Power Marketing, L.L.C.

Description: Alpena Power Marketing, LLC submits a Notice of Cancellation and an Order 614 compliant cancelled rate schedule sheet terminating their market-based rate schedule under ER05-963.

Filed Date: 5/12/2005.

Accession Number: 20050516-0029.

Comment Date: 5 p.m. Eastern Time on Thursday, June 2, 2005.

Docket Numbers: ER00-2173-005; ER00-3219-005; ER01-1300-006.

Applicants: Northern Indiana Public Service Company.

Description: Northern Indiana Public Service Co et al. submits its compliance filing with FERC's 4/14/05 Order under ER00-2173 et al. Filed Date: 5/13/2005.

Accession Number: 20050516-0152.

Comment Date: 5 p.m. Eastern Time on Friday, June 3, 2005.

Docket Numbers: ER02-1437-002.

Applicants: Triton Power Michigan LLC.

Description: Triton Power Michigan LLC submits its Triennial Market Power Analysis in support of its market-based rate authorization etc under ER02-1437.

Filed Date: 5/13/2005.

Accession Number: 20050516-0156.

Comment Date: 5 p.m. Eastern Time on Friday, June 3, 2005.

Docket Numbers: ER02-1656-026.

Applicants: California Independent System Oper. Corp.

Description: Further amendments to the California Independent System Operator Corporation's amended comprehensive market design proposal under ER02-1656. Part 1 of 2.

Filed Date: 5/13/2005.

Accession Number: 20050517-0094.

Comment Date: 5 p.m. Eastern Time on Friday, June 3, 2005.

Docket Numbers: ER05-734-002.

Applicants: Energy Investments, LLC.

Description: Energy Investments, LLC submits an amendment to its 3/28/05 filing to include a description of the upstream ownership under ER05-734.

Filed Date: 5/13/2005.

Accession Number: 20050517-0285.

Comment Date: 5 p.m. Eastern Time on Friday, June 3, 2005.

Docket Numbers: ER05-964-000.

Applicants: TXU Electric Delivery Company.

Description: TXU Electric Delivery Co submits First Revised Sheet 34 to FERC Electric Tariff, Fourth Revised Volume 2 under ER05-964.

Filed Date: 5/13/2005.

Accession Number: 20050516-0101.

Comment Date: 5 p.m. Eastern Time on Friday, June 3, 2005.

Docket Numbers: ER05-965-000.

Applicants: TXU Electric Delivery Company.

Description: TXU Electric Delivery Co submits First Revised Sheet 28-29 & 37-38 to FERC Electric Tariff, Ninth Revised Volume 1 etc., to be effective 5/31/04 under ER05-965.

Filed Date: 5/13/2005.

Accession Number: 20050516-0100.

Comment Date: 5 p.m. Eastern Time on Friday, June 3, 2005.

Docket Numbers: ER05-966-000.

Applicants: Pacific Gas & Electric Company.

Description: Pacific Gas and Electric Co submits Shiloh Wind Partners LLC -Generator Special Facilities Agreement, executed on 3/23/05 etc., under ER05-966.

Filed Date: 5/13/2005.

Accession Number: 20050517-0180.

Comment Date: 5 p.m. Eastern Time on Friday, June 3, 2005.

Docket Numbers: ER05-967-000.

Applicants: Western Massachusetts Electric Company.

Description: Western Massachusetts Electric Co. submits the First Revised Service Agreement NU-IA-2 under ER05-967. Part 1 of 2.

Filed Date: 5/13/2005.

Accession Number: 20050516-0139.

Comment Date: 5 p.m. Eastern Time on Friday, June 3, 2005.

Docket Numbers: ER05-968-000.

Applicants: Basin Creek Equity Partners, LLC.

Description: Application of Basin Creek Equity Partners, LLC for Order Accepting Initial Market Based Rate Tariff and Granting Certain Waivers etc under ER05-968.

Filed Date: 5/13/2005.

Accession Number: 20050516-0157.

Comment Date: 5 p.m. Eastern Time on Friday, June 3, 2005.

Docket Numbers: ER99-1714-004.

Applicants: Lake Road Generating Company, LP.

Description: Lake Road Generating Co., LP submits its updated triennial market power analysis under ER99-1714.

Filed Date: 5/13/2005.

Accession Number: 20050517-0098.

Comment Date: 5 p.m. Eastern Time on Friday, June 3, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding to the proceeding. Anyone filing a motion to intervene or protest must serve a copy of that document on the Applicant. In reference to filings initiating a new proceeding (ER05- -000 docket numbers), interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling line to log on and submit the intervention or protests.

Persons unable to file electronically should submit an original and 14 copies of the intervention or protest to the Federal Energy Regulatory Commission, 888 First Street, NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For Assistance with any FERC Online service, please e-mail FERCOnlineSupport@ferc.gov or call (866) 208-3676 (toll free). For TTY, call (202) 502-8659.

Linda Mitry,
Deputy Secretary.

[FR Doc. E5-2595 Filed 5-23-05; 8:45 am]

BILLING CODE 6717-01-P